DEPARTMENT OF HOMELAND SECURITY

Federal Emergency Management Agency

[Docket ID FEMA-2025-0002; Internal Agency Docket No. FEMA-B-2575]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before March 9, 2026.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2575, to David N. Bascom, Acting Director, Engineering and Modeling Division, National Flood Insurance Program, Resilience, FEMA, 400 C Street SW, Washington, DC 20472, or (email) david.bascom@fema.dhs.gov.

FOR FURTHER INFORMATION CONTACT: David N. Bascom, Acting Director, Engineering and Modeling Division, National Flood Insurance Program, Resilience, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Elizabeth Asche,
Assistant Administrator, Federal Insurance Directorate, Resilience Federal Emergency Management Agency, Department of Homeland Security.

Community | Community map repository address
Huron County, Michigan (All Jurisdictions)
Project: 14-05-2711S Preliminary Date: November 30, 2023 and July 11, 2025
City of Caseville | Caseville City Hall, 6767 Main Street, Caseville, MI 48725.
City of Harbor Beach | City Hall, 766 State Street, Harbor Beach, MI 48441.
Township of Caseville | Caseville City Hall, 6767 Main Street, Caseville, MI 48725.
Township of Chandler | Chandler Township Hall, 5004 W Filion Road, Elkton, MI 48731.
Township of Fairhaven | Fairhaven Township Hall, 9811 Main Street, Bay Port, MI 48720.
Township of Gore | Gore Township Hall, 5139 North Lakeshore Road, Port Hope, MI 48468.
Township of Hume | Hume Township Hall, 1918 Oak Beach Road, Port Austin, MI 48467.
Township of Huron | Huron Township Hall, 7951 Pioneer Drive, Port Hope, MI 48468.
Township of Lake | Lake Township Hall, 4988 West Kinde Road, Caseville, MI 48725.
Township of McKinley | McKinley Township Hall, 3000 Caseville Road, Bay Port, MI 48720.
Township of Meade | Meade Township Hall, 2119 West Filion Road, Filion, MI 48432.
Township of Pointe Aux Barques | Pointe Aux Barques Township Hall, 9036 Linwood Drive, Port Austin, MI 48467.
Township of Port Austin | Port Austin Township Hall, 8751 North Hellems Road, Port Austin, MI 48467.
Township of Rubicon | Rubicon Township Hall, 4425 Main Street, Port Hope, MI 48468.
Township of Sand Beach | Sand Beach Township Hall, 1170 South Lakeshore Road, Harbor Beach, MI 48441.
Township of Sebewaing | Sebewaing Fire Hall, 14 East Sharpsteen Street, Sebewaing, MI 48759.
Township of Sherman | Sherman Township Fire Hall, 4599 South Ruth Road, Ruth, MI 48470.
Village of Port Austin | Port Austin Village Hall, 17 West State Street, Port Austin, MI 48467.
Village of Port Hope | Village Fire Hall, 4250 Lakeshore Road, Port Hope, MI 48468.
Village of Sebewaing | Municipal Building, 222 North Center Street, Sebewaing, MI 48759.

[FR Doc. 2025-22242 Filed 12-5-25; 8:45 am]

BILLING CODE 9110-12-P